DEPARTMENT OF THE INTERIOR

Bureau of Land Management

[LLAKA02000-L12200000-EB0000]

Notice of Intent To Collect Fees on Public Land in Tangle Lakes, Alaska, Glennallen Field Office Under the Federal Lands Recreation Enhancement Act

AGENCY: Bureau of Land Management, Interior.

ACTION: Notice of intent.

SUMMARY: Pursuant to applicable provisions of the Federal Lands Recreation Enhancement Act of 2004 (REA), the Bureau of Land Management (BLM) Glennallen Field Office will begin to collect fees in 2011 upon completion of construction at the Tangle Lakes Campground, mile 121.5 Denali Highway, Alaska (Section 34, T. 21 S., R. 9 E., Fairbanks Meridian).

DATES: Submit comments on or before April 25, 2011. The public is encouraged to comment. Effective 6 months after the publication of this notice and upon completion of construction, the BLM Glennallen Field Office will initiate fee collection in the Tangle Lakes Campground, unless the BLM publishes a Federal Register notice to the contrary. Future adjustments in the fee amount will be modified in accordance with the Glennallen Field Office's recreation fee business plan; consultation with the BLM Anchorage District Office; and the public being notified prior to any fee increase.

ADDRESSES: Field Manager, Glennallen Field Office, Bureau of Land Management, P.O. Box 147, Mile Post 186.5 Glenn Highway, Glennallen, Alaska 99588.

FOR FURTHER INFORMATION CONTACT: Elijah Waters, Recreation Branch Chief or Marcia Butorac, Outdoor Recreation Planner, 907-822-3217; address: P.O. Box 147, Mile Post 186.5 Glenn Highway, Glennallen, Alaska 99588; e-mail: AK_GFO_GeneralDelivery@blm.gov.

SUPPLEMENTARY INFORMATION: The Tangle Lakes Campground is located in central Alaska along the Denali Highway at milepost 21.5 and lies within the nationally designated Delta Wild and Scenic River corridor and within the nationally registered Tangle Lakes Archaeological District. Under section 3(g) of the REA, the Tangle Lakes Campground will qualify as a site wherein visitors can be charged an “Expanded Amenity Recreation Fee.” Pursuant to the REA and regulations at 43 CFR part 2931, fees may be charged for developed campgrounds. Money collected from fees will be used at the Tangle Lakes Campground for visitor services as well as repair, maintenance, and facility enhancement that affects visitor enjoyment, access, health, and safety. The BLM is committed to provide and receive fair value for the use of developed recreation facilities and services that meet public-use demands, provide quality experiences, and protect important resources. Camping fees collected at the Tangle Lakes Campground will help ensure funding for the maintenance of facilities and provide recreational opportunities and resource protection. The amount of the recreation fee shall be commensurate with fees charged at the other campgrounds within the Glennallen Field Office administrative boundaries with consideration to benefits and services provided to the visitor, cost of operation and maintenance, market assessment, and public comment. Camping fees will be posted at the site and collection will take place utilizing a self-service station. Campers using the America the Beautiful—the National Parks and Federal Recreational Lands Pass (Interagency Senior Pass and Interagency Access Pass) will receive a 50 percent discount to the camping fee.

Reconstruction of the Tangle Lakes Campground is planned for the summer of 2011. The improvements will provide designated campsites with tables, tent or trailer space and fire rings, as well as a picnic area, parking, roadways, trails and improved outhouses. The campground currently maintains accessible toilet facilities, bear-proof refuse containers, and drinking water. Upon completion of construction, the facility will comply with the REA regulation for developed campgrounds allowing for an expanded amenity recreation fee.

Public comments from recreationists have been gathered for many years through voluntary registration stands and Government Performance and Results Act (GPRA) surveys regarding fee collection within the Glennallen Field Office area. Fees are expected by visitors using Glennallen Field Office campground facilities. In 2004, 52.2 percent of GPRA-surveyed visitors reported they were willing to pay more for their stay in Glennallen Field Office campgrounds. In 2008, 86 percent of the GPRA survey respondents visiting Glennallen Field Office campgrounds felt that the fee was appropriate for the site.

As provided for in section 4(d)(1)(C) of the REA, the Governor of Alaska chose not to establish a committee to review recreation fee proposals. The Glennallen Field Office did engage the public through meetings for the update of the Delta Wild and Scenic River management plan. The public was provided details of the planned improvements and collection fees at the Tangle Lakes Campground and given an opportunity to comment. Visitors to the campground over the last several years have been informed of the pending facility changes and fees being charged at the site.

In December 2004, the REA was signed into law. For 10 years, the Secretaries of the Interior and Agriculture have authority under the REA to establish, modify, charge, and collect fees for use of some Federal recreation lands and waters, and contains specific provisions addressing public involvement in the establishment of recreation fees. The REA also directs the Secretaries to publish a 6-month advance notice in the Federal Register whenever new recreation fee areas are established. In accordance with BLM recreation fee program policy, the Glennallen Field Office is developing a Recreational Fee Business Plan to be available at the Glennallen Field Office and the Anchorage District Office. The business plan explains the fee collection process and how fees will be used at the fee site.

The BLM welcomes public comments. Please send comments to the address specified in the ADDRESSES section. Before including your address, phone number, e-mail address, or other personal identifying information in your comment, you should be aware that your entire comment—including your personal identifying information—may be made publicly available at any time. While you can ask us in your comment to withhold your personal identifying information from public review, we cannot guarantee that we will be able to do so.

Authority: 16 U.S.C. 6803(b).

Gary Reimer,
District Manager, Anchorage District Office.

[FR Doc. 2011-7008 Filed 3-24-11; 8:45 am]

BILLING CODE 4310-JA-P